DEPARTMENT OF TRANSPORTATION

Federal Motor Carrier Safety Administration

[Docket No. FMCSA-2011-0022]

Parts and Accessories Necessary for Safe Operation; Brakes; Application for Exemption From Innovative Electronics; Correction

AGENCY: Federal Motor Carrier Safety Administration (FMCSA), DOT.

ACTION: Notice of application for exemption; request for comments; correction.

SUMMARY: This document corrects the docket number for FMCSA's notice of application for exemption on Parts and Accessories Necessary for Safe Operation; Brakes; Application for Exemption From Innovative Electronics published in the Federal Register of February 10, 2011.

DATES: Comments must be received on or before March 14, 2011.

FOR FURTHER INFORMATION CONTACT: Mr. Luke W. Loy, Vehicle and Roadside Operations Division, Office of Bus and Truck Standards and Operations, MC-PSV, (202) 366-0676; Federal Motor Carrier Safety Administration, 1200 New Jersey Avenue, SE., Washington, DC 20590-0001.

Correction

The following correction is made to the Parts and Accessories Necessary for Safe Operation; Brakes; Application for Exemption From Innovative Electronics; Notice of application for exemption; request for comments (76 FR 7623, February 10, 2011), in FR Doc 2011-2985 on page 7623, third column, correct Docket No. FMCSA-2010-0022 to Docket No. FMCSA-2011-0022.

Issued On: February 11, 2011.
Larry W. Minor,
Associate Administrator for Policy.

[FR Doc. 2011-3896 Filed 2-18-11; 8:45 am]

BILLING CODE 4910-EX-P